NATIONAL SKILL STANDARDS BOARD

Partnership Organization; Sales & Service Voluntary Partnership (S&SVP); Solicitation of Comments

AGENCY: National Skill Standards Board.

ACTION: Solicitation of comments.

SUMMARY: The National Skill Standards Board (NSSB) is building a voluntary national system of skill standards, assessment, and certification that will enhance the ability of the U.S. to compete effectively in a global economy. The Sales & Service Voluntary Partnership (S&SVP) is an industry-based organization that has been recognized by the NSSB to develop proposed skill standards. As NSSB requires of Voluntary Partnerships, S&SVP seeks public comment to improve the product, receive input on potential uses of the skill standards in various organizations, and to assist in the design of associated assessment and certification systems related to the skill standards' full implementation and continuous improvement. Comments must be submitted in writing in order to be considered, and details on submitting comments via e-mail, fax, or regular mail are provided in the ADDRESSES section. Due to the complexity and length of the proposed skill standards, only a summary is published in this Notice. To obtain the full text of the proposed S&SVP Skill Standards, see the Supplementary Information section.

DATES: The Sales & Service Voluntary Partnership will accept written comments on the proposed Skill Standards on or before September 17, 2001.

ADDRESSES: Please send comments via regular mail to: Nicole Manning, S&SVP, c/o NRF Foundation, 325 7th Street NW, Suite 1100, Washington, DC 20004. To submit comments via fax, transmit to Nicole Manning, S&SVP, 202-737-2849. To submit comments via e-mail, send comments to ssvpinfo@nrf.com.

FOR FURTHER INFORMATION CONTACT: For further information regarding S&SVP's development of skill standards, assessment, and certification, contact JoEllen Carlson, S&SVP, 202-626-8196, carlsonj@nrf.org. For further information on the Voluntary National System of Industry Skill Standards, contact the National Skill Standards Board (NSSB): 1441 L Street, NW, Suite 9000/Washington DC 20005/200-254-8628/http://www.nssb.org.

SUPPLEMENTARY INFORMATION:

Table of Contents

I. Contact Information for Submitting Comments

II. Background

III. Authorizing Legislation

IV. National Skill Standards Board (NSSB)

V. Sales & Service Voluntary Partnership (S&SVP)

VI. Mission of the Sales & Service Voluntary Partnership

VII. Background for Proposed Standards Release

VIII. Proposed Standards

IX. Resolution of Comments

I. Contact Information

The full text of the proposed S&SVP Skill Standards may be obtained by submitting a written request to the following mailing address: Nicole Manning, S&SVP, c/o NRF Foundation, 325 7th Street NW, Suite 1100, Washington, DC 20004, or by faxed request to Nicole Manning, S&SVP, 202-737-2849. The full text of the proposed S&SVP Skill Standards is also available on the S&SVP website at http://www.SSVP.org. Proposed skill standards may be viewed on the web or downloaded (PDF files). Printed copies of the proposed skill standards may also be obtained from the downloadable PDF at http://www.SSVP.org.

II. Background

The S&SVP is a national body serving as the catalyst for skill standards development for the retail, wholesale, real estate and personal services industries. Participation is open to large and small employers, trade associations, labor organizations, employee associations, and public interest representatives from education, government, community and policy groups. The S&SVP is managed by the NRF Foundation under a grant from the National Skill Standards Board.

III. Authorizing Legislation

Public Law 103-227, Title V, National Skill Standards Act of 1994.

IV. National Skill Standards Board (NSSB)

The National Skill Standards Act of 1994 created “a National Skill Standards Board to serve as a catalyst in stimulating the development and adoption of a voluntary national system of skill standards and of assessment and certification of attainment of skill standards.” Industry coalitions called Voluntary Partnerships are developing the skill standards, assessment and certification systems within fifteen NSSB-defined industry sectors.

V. Sales & Service Voluntary Partnership (S&SVP)

The National Skill Standards Board formally recognized the Sales & Service Voluntary Partnership on May 28, 1998 to develop a system of voluntary skill standards for the service industry. This system is industry-led with full partnership and full and balanced participation of representatives of employers, unions, education, civil rights organizations, and community stakeholders. The Sales & Service Voluntary Partnership (S&SVP) is staffed and managed by the NRF Foundation under a grant from the National Skill Standards Board.

VI. Mission of the Sales & Service Voluntary Partnership

The mission of the S&SVP is to develop a nationwide system of workforce skill standards for workers in the service sector. This nationwide Sales & Service Skill Standards System seeks to:

• Enhance productivity and global economic competitiveness of U.S.-based companies;

• Raise the standard of living and economic security of American workers by improving their access to high-skill, high-wage employment and career opportunities for those currently in, entering, or reentering the workforce;

• Encourage the use of world-class academic, occupational and employability standards to guide continuous education and training for current and future workers.

VII. Background for Proposed Standards Release

The S&SVP comprises the retail, wholesale, real estate, and personal services industries. Standards are expected to be used broadly to provide national credentials in the areas of customer service, sales, and others as appropriate, and in conjunction with industry, education, labor, government, and organizational partners. Completion of these proposed standards for submission to the National Skill Standards Board marks a major step towards developing a nationwide system of voluntary skill standards, assessments and certification, as envisioned in the National Skill Standards Act of 1994.

VIII. Proposed Standards

The S&SVP Proposed Standards include information on the work (i.e., critical work functions, key activities, and performance indicators) as well as the knowledge and skills (academic, employability, and occupational/technical) needed in the service sector. These standards are designed to benefit all stakeholders, including organizations, educational institutions, agencies, and businesses of all sizes, regardless of geographic location. They are intended to guide employees, job seekers, and students on the performance requirements for sales and service work in high-performance environments. For businesses, they provide a benchmark for evaluating their own work processes and building a professional, committed workforce.

IX. Resolution of Comments

The Sales & Service Voluntary Partnership shall review and take into consideration all comments; will respond in writing to comments as appropriate; and, with agreement from the National Skill Standards Board, will make revisions as deemed appropriate. At the end of the comment period the S&SVP will post a summary of comments on the S&SVP Web site, http://www.ssvp.org. A summary of the response to comments and a notice of revision will be posted at a later date. The summary of responses may also be accessed at the NSSB website, http://www.nssb.org, via hyperlink to the S&SVP website.

Signed at Washington, DC this 13th day of August, 2001.
Edie West,
Executive Director/National Skill Standards Board.

[FR Doc. 01-20778 Filed 8-16-01; 8:45 am]

BILLING CODE 4510-BF-P